DEPARTMENT OF LABOR

Employment and Training Administration

[TA-W-51, 364]

Raytheon Aircraft, Wichita, KS; Notice of Termination of Investigation

Pursuant to Section 221 of the Trade Act of 1974, an investigation was initiated on January 13, 2003, in response to a worker petition filed by the International Association of Machinists and Aerospace Workers, District Lodge 70 on behalf of workers at Raytheon Aircraft, Wichita, Kansas.

The petitioning group of workers are subject to an ongoing investigation for which a determination has not yet been issued (TA-W-51,049). Consequently, further investigation in this case would serve no purpose, and the investigation has been terminated.

Signed in Washington, DC this 14th day of April 2003.
Richard Church,
Certifying Officer, Division of Trade Adjustment Assistance.

[FR Doc. 03-10345 Filed 4-25-03; 8:45 am]

BILLING CODE 4510-30-P